ELECTION ASSISTANCE COMMISSION

Sunshine Act Notice; Withdrawal

AGENCY: U.S. Election Assistance Commission.

ACTION: Sunshine Act notice; notice of public agenda, withdrawal.

SUMMARY: This action withdraws the Sunshine Act Notice published in the Federal Register on August 21, 2023, Public Meeting: U.S. Election Assistance Commission.

DATES: As of August 22, 2023, the Sunshine Act Notice published in the Federal Register on August 21, 2023 (88 FR 56811) is withdrawn.

FOR FURTHER INFORMATION CONTACT: Kristen Muthig, Telephone: (202) 897-9285, Email: kmuthig@eac.gov.

Camden Kelliher,
Senior Associate Counsel, U.S. Election Assistance Commission.

[FR Doc. 2023-18425 Filed 8-23-23; 11:15 am]

BILLING CODE 4810-71-P